DEPARTMENT OF THE INTERIOR

National Park Service

Environmental Impact Statement on Recreational Use of Off-Road Vehicles Along Nine Trails in the Nabesna Area of Wrangell-St. Elias National Park and Preserve

AGENCY: National Park Service, Interior.

ACTION: Notice of Intent To Prepare an Environmental Impact Statement.

SUMMARY: The National Park Service (NPS) is preparing an EIS on the recreational use of off-road vehicles (ORV) along nine trails in the Nabesna area of Wrangell-St. Elias National Park and Preserve. The purpose of the EIS is to evaluate a range of alternatives for managing recreational off-road vehicle use on the following trails: Caribou Creek, Lost Creek, Trail Creek, Reeve Field, Boomerang Lake, Soda Lake, Suslota Lake, Copper Lake and Tanada Lake. The EIS will be used to guide the management of recreational ORV use on these trails in the Nabesna area of Wrangell-St. Elias National Park and Preserve. It may also form the basis for either a special regulation to designate ORV routes and areas or a compatibility finding to issue permits for ORV use in accordance with current regulations. The EIS will assess potential environmental impacts associated with a range of reasonable alternatives for managing recreational ORV impacts on park resources and values such as soils, vegetation, wetlands, wildlife, visitor experience, scenic quality, cultural resources and subsistence opportunities.

In addition to the No Action alternative, this EIS will evaluate a proposed action that would authorize recreational ORV use on trails that can be maintained to a standard that reduces or eliminates adverse impacts. Other alternatives include: authorizing recreational ORV use on some or all nine trails after making improvements to address degraded conditions along trail alignments, and not authorizing recreational ORV use on any trails. Public input is sought on this range of alternatives.

This EIS is being prepared in accordance with the requirements of the National Environmental Policy Act of 1969, as amended (42 U.S.C. 4331 et seq.), and its implementing regulations at 40 CFR part 1500.

Scoping: The NPS requests input from federal and state agencies, local governments, private organizations, recreational users, and the public on the scope of issues to be addressed in this EIS. Scoping comments are being solicited. NPS representatives will be available to discuss issues, resource concerns and the planning process at public scoping meetings. Scoping meetings will be held in Anchorage, Fairbanks, Tok, Glennallen, and Slana, Alaska in early 2008. When public meetings have been scheduled, their dates, times, and locations will be announced in local newspapers and posted on the NPS Planning, Environment, and Public Comment (PEPC) Web site at http://parkplanning.nps.gov/WRST.

Before including your address, phone number, e-mail address, or other personal identifying information in your comment, you should be aware that your entire comment—including your personal identifying information—may be made publicly available at any time. While you can ask us to withhold your personal identifying information from public review, we cannot guarantee that we will be able to do so. We will always make submissions from organizations or businesses, and from individuals identifying themselves as representatives of or officials of organizations or businesses, available for public inspection in their entirety.

DATES: Comments concerning the scope of this EIS should be received 60 days after the last scoping meeting referenced above. The draft EIS is projected to be available to the public in early 2009. Electronic comments may be submitted to the NPS Planning, Environment, and Public Comment (PEPC) Web site at http://parkplanning.nps.gov/WRST. Written comments also may be mailed or faxed to the address and phone number provided below.

FOR FURTHER INFORMATION CONTACT: Meg Jensen, Park Superintendent, Wrangell-St. Elias National Park and Preserve, P.O. Box 439, Copper Center, Alaska 99573. Telephone (907) 822-5234, Fax (907) 822-7259.

SUPPLEMENTARY INFORMATION: The 13.2 million acre Wrangell-St. Elias National Park and Preserve was established in 1980 at which time the nine trails under evaluation were already in existence and had use. As part of the general management planning for the park, ORVs were determined to be a means of surface transportation traditionally employed by local rural residents engaged in subsistence uses. In 1983, the park began issuing permits for recreational use of these trails initially in accordance with 36 CFR 13.14(c) which was replaced by 43 CFR 36.11(g)(2) in 1986. The park annually issues approximately 200 recreational permits largely for sport hunters traveling to preserve areas. Subsistence users and inholders (there are 784,000 acres of non-federal lands within the park) also use ORVs on these trails. They are also used by hikers, and in the winter by skiers, mushers and trappers. Snowmachines are the typical motorized use in the winter months. Over the history of the park, research has been conducted to assess the conditions of the trails and to experiment with a variety of trail hardening materials.

On June 29, 2006, the National Parks Conservation Association, Alaska Center for the Environment, and The Wilderness Society (Plantiffs) filed a lawsuit against the NPS in the United States District Court for the District of Alaska regarding recreational ORV use on the nine trails that are the subject of this EIS. The plaintiffs challenged the NPS issuance of recreational ORV permits asserting that the NPS failed to make the finding required by 43 CFR 36.11(g)(2), that such ORV use is compatible with the purposes and values of the Park and Preserve. They also claimed that the NPS failed to prepare an environmental analysis of recreational ORVs.

In the May 15, 2007, settlement agreement, the NPS agreed to endeavor to complete an EIS and Record of Decision (ROD) by December 31, 2010, during which time the NPS can issue permits authorizing recreational use of ORVs on the Suslota Lake Trail, Tanada Lake Trail, and a portion of the Copper Lake Trail only when the ground is frozen. The NPS may continue to issue permits for recreational ORV use of the remaining six trails through the year 2010.

The litigation and settlement did not change the use of ORVs by local rural residents engaged in subsistence uses. The trails remain open to other uses such as hiking, skiing, or horseback riding. Prior to the 2007 summer/fall season, all recreational ORV permit holders were contacted and apprised of the situation.

Executive Order 11644, issued in 1972 and amended by Executive Order 11989 in 1977, states that federal agencies allowing ORV use must designate the specific areas and trails on public lands on which the use of ORVs may be permitted, and areas in which the use of ORVs may not be permitted. Agency regulations to authorize ORV use shall provide that designation of such areas and trails will be based upon the protection of the resources of the public lands, promotion of the safety of all users of those lands, and minimization of conflicts among the various uses of those lands. Executive Order 11644 was issued in response to the widespread and rapidly increasing use of ORV on the public lands—“often for legitimate purposes but also in frequent conflict with wise land and resource management practices, environmental values, and other types of recreational activity.” Therefore, the purpose of this EIS is to consider alternative management strategies for the recreational use of ORVs consistent with the park's enabling legislation and other applicable laws and regulations.

Dated: December 12, 2007.
Tim A. Hudson,
Acting Regional Director, Alaska.

[FR Doc. E7-24853 Filed 12-20-07; 8:45 am]

BILLING CODE 4312-HC-P